DEPARTMENT OF ENERGY

Federal Energy Regulatory Commission

[Docket No. ER11-4628-000]

PJM Interconnection, L.L.C.; Supplemental Notice for Staff Technical Conference

Take notice that the staff technical conference in the above captioned proceeding, to be held on February 14, 2012, will include a listen-only call-in line for participants who are unable to attend in person. If you need a listen-only line, please email Sarah McKinley (Sarah.McKinley@ferc.gov) by 5 p.m. (EST) on Friday, February 10, with your name, email, and phone number, in order to receive the call-in information the day before the conference. Please use the following text for the subject line, “ER11-4628-000 listen-only line registration.”

FERC conferences are accessible under section 508 of the Rehabilitation Act of 1973. For accessibility accommodations please send an email to accessibility@ferc.gov or call toll free (866) 208-3372 (voice) or (202) 502-8659 (TTY), or send a fax to (202) 208-2106 with the required accommodations.

Parties will be provided an opportunity to file comments after the conference. The Commission will announce the comment period on or after the day of the conference.

Parties seeking additional information regarding this conference should contact Tristan Cohen at Tristan.Cohen@ferc.gov or (202) 502-6598.

Dated: February 2, 2012.
Kimberly D. Bose,
Secretary.

[FR Doc. 2012-2858 Filed 2-7-12; 8:45 am]

BILLING CODE 6717-01-P